DEPARTMENT OF THE TREASURY

Departmental Offices; International Monetary Fund Advisory Committee

AGENCY: Department of the Treasury.

ACTION: Notice of meeting.

SUMMARY: Under section 610 of the Foreign Operations, Export Financing and Related Programs Appropriations Act, 1999, the Secretary of the Treasury is required to establish an International Monetary Fund Advisory Committee (the “Committee”) to advise the Secretary of IMF policy.

DATES: The fourth meeting of the Committee will be held on Friday, June 16, 2000, beginning at 1 p.m. in the Diplomatic Room located on the third floor of the main Department of the Treasury Building, 1500 Pennsylvania Avenue, NW., Washington, DC.

FOR FURTHER INFORMATION CONTACT: Designated Federal Official: William McFadden, Senior Policy Advisor, Office of International Monetary and Financial Policy, Room 444, Department of the Treasury, 1500 Pennsylvania Avenue NW., Washington, DC 20220. Telephone number 202-622-0343, fax number (202) 622-7664.

SUPPLEMENTARY INFORMATION: Notice of this meeting is given under the Federal Advisory. Committee Act, 5 U.S.C. App. 2.

Agenda of Meeting

The IMF Advisory Committee will discuss the legislated mandates directed at the IMF, with a focus on questions related to good governance, combating corruption, and transparency.

Procedural

This meeting is open to the public. Please note that the meeting may close early if all business is finished. If you wish to attend please FAX your full name, birthday, and social security number to the Designated Federal Official no later than 4 p.m., June 12th, for clearance into the Treasury building. Members of the public who have provided such information, must enter the main Treasury building at the entrance on 15th Street between F and G Streets, and must provide a photo ID at the entrance to be admitted into the building.

Members of the public may submit written comments. If you wish to furnish such comments, please provide 16 copies of your written material to the Designated Federal Official. If you wish to have your comments distributed to members of the Committee in advance of the third meeting, 16 copies of any written material should be provided to the Designated Federal Official no later than June 7th.

Dated: May 16, 2000.
William J. McFadden,
Designated Federal Official.

[FR Doc. 00-14814 Filed 6-12-00; 8:45 am]

BILLING CODE 4810-25-M